DEPARTMENT OF THE INTERIOR

Fish and Wildlife Service

Rachel Carson National Wildlife Refuge, Wells, York County, ME

AGENCY: Fish and Wildlife Service, Interior.

ACTION: Notice of availability: Final comprehensive conservation plan and finding of no significant impact.

SUMMARY: We, the U.S. Fish and Wildlife Service (Service), announce the availability of the final Comprehensive Conservation Plan (CCP) and Finding of No Significant Impact for Rachel Carson National Wildlife Refuge (NWR). Prepared in conformance with the National Wildlife Refuge System Administration Act of 1966, as amended by the National Wildlife Refuge System Improvement Act of 1997, and the National Environmental Policy Act of 1969, the plan describes how we intend to manage the refuge over the next 15 years.

ADDRESSES: You may obtain copies of this CCP on compact disk or in print by writing to Rachel Carson NWR, 321 Port Road, Wells, Maine 04090, telephone 207-646-9226. You may also access and download a copy from the Web sites http://library.fws.gov/ccps.htm or http://rachelcarsonrefuge.fws.gov.

FOR FURTHER INFORMATION CONTACT: Ward Feurt, Refuge Manager, Rachel Carson NWR, at 207-646-9226, or by electronic mail at Ward_Feurt@fws.gov.

SUPPLEMENTARY INFORMATION: The National Wildlife Refuge System Administration Act of 1966, as amended by the National Wildlife Refuge System Improvement Act of 1997 (16 U.S.C. 668dd et seq.), requires CCPs for all refuges to provide refuge managers with 15-year strategies for achieving refuge purposes and furthering the mission of the National Wildlife Refuge System. Developing CCPs is done according to the sound principles of fish and wildlife science and laws, while adhering to Service planning and related policies. In addition to outlining broad management direction on conserving refuge wildlife and habitat, CCPs identify wildlife-dependent recreational opportunities available to the public, including opportunities for hunting, fishing, wildlife observation and photography, and environmental education and interpretation. We will review and update this CCP at least once every 15 years.

Rachel Carson NWR spans over 5,293 acres, which comprises 10 divisions between the towns of Kittery and Cape Elizabeth in York and Cumberland Counties, Maine. The refuge harbors estuaries that provide nurseries for many marine fish. Its tidal rivers provide passage to upstream spawning areas for anadromous fish. Its diverse aquatic and upland habitats support breeding, migrating, and wintering birds, and provide essential habitat for nationally threatened and endangered species. The Service acquired most of the refuge under authority of the Migratory Bird Conservation Act of 1929 (16 U.S.C. 715-715r) for “use as an inviolate sanctuary, or for any other management purposes, for migratory birds.”

We distributed a draft CCP/Environmental Assessment (EA) for public review and comment for 30 days between August 17 and September 18, 2006. Its distribution was announced in the Federal Register on August 17, 2006 (71 FR 47511). That draft analyzed three alternatives for managing the refuge. We also held two public meetings on August 29 and September 7, 2006, to obtain public comments. We received 41 comments from local towns, conservation and recreational organizations, and local residents. Appendix J of the final CCP includes a summary of those comments and our responses to them.

We selected Alternative B (the Service-proposed action) from the draft CCP/EA as the alternative for implementation. Our final CCP fully describes its details. Staff from Rachel Carson NWR headquarters office in Wells, Maine, will continue to administer all divisions of the refuge. Highlights of Alternative B, which will be incorporated into the final CCP, include:

(1) Acquire the remaining 3,833 acres within the approved acquisition boundary and expand the refuge by 5,558 acres beyond its current approved boundary for future acquisitions;

(2) Build a new administrative complex including office space, maintenance facilities, and visitor contact station;

(3) Combine the Moody, Lower Wells, Upper Wells, and Mousam River Divisions into one Wells Bay Division;

(4) Increase public use opportunities, e.g., provide expanded hunting and fishing opportunities in new land acquisitions;

(5) Improve the availability and quality of interpretive signs and kiosks, nature trails, and parking areas;

(6) Incorporate a pilot recreation fee program to support public use activities;

(7) Enhance outreach and partnerships with local communities, expand the role and membership of our Friends Group, and strengthen our relationships with neighbors and elected officials; and

(8) Develop Rachel Carson NWR as an outstanding center for research and demonstration emphasizing land management techniques for restoring and sustaining healthy estuarine ecosystems in concert with the Service's Land Management Research and Demonstration program.

Dated: July 25, 2007.
Thomas J. Healy,
Acting Regional Director, U.S. Fish and Wildlife Service, Hadley, Massachusetts.

[FR Doc. E7-16614 Filed 8-21-07; 8:45 am]

BILLING CODE 4310-55-P